SECURITIES AND EXCHANGE COMMISSION

Proposed Collection; Comment Request

Upon Written Request, Copies Available From: Securities and Exchange Commission, Office of Filings and Information Services, Washington, DC 20549,

Extension: Regulation S-X, OMB Control No. 3235-0009, SEC File No. 270-3

Notice is hereby given that pursuant to the Paperwork Reduction Act of 1995 (44 U.S.C. 3501 et seq.) the Securities and Exchange Commission (“Commission”) is soliciting comments on the collection of information summarized below. The Commission plans to submit this existing collection of information to the Office of Management and Budget for extension and approval.

Regulation S-X sets forth the form and content of, and requirements for, financial statements required to be filed as a part of registration statements under the Securities Act of 1933, registration statements filed under section 12, annual or other reports filed under section 13 and 15(d) and proxy and information statements filed under section 14 of the Securities Exchange Act of 1934, registration statements and annual reports filed under the Public Utility Holding Company Act of 1935 and registration statements and shareholder reports filed under the Investment Company Act of 1940. Regulation S-X is assigned one burden hour for administrative convenience because it simply prescribes the disclosure that must appear in other filings under the federal securities laws.

Written comments are invited on: (a) Whether this collection of information is necessary for the proper performance of the functions of the agency, including whether the information will have practical utility; (b) the accuracy of the agency's estimate of the burden of the collections of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Office of Information Technology, Securities and Exchange Commission, 450 Fifth Street, NW., Washington, DC 20549.

Dated: January 26, 2005.
Margaret H. McFarland,
Deputy Secretary.

[FR Doc. E5-396 Filed 2-1-05; 8:45 am]

BILLING CODE 8010-01-P